DEPARTMENT OF HEALTH AND HUMAN SERVICES

Centers for Disease Control and Prevention

[30Day-11-0572]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Health Message Testing System (OMB No. 0920-0572, Exp. 11/31/2011)—Revision—Office of the Associate Director for Communication, Centers for Disease Control and Prevention CDC).

Background and Brief Description

Before CDC disseminates a health message to the public, the message always undergoes scientific review. However, even though the message is based on sound scientific content, there is no guarantee that the public will understand a health message or that the message will move people to take recommended action. Communication theorists and researchers agree that for health messages to be as clear and influential as possible, target audience members or representatives must be involved in developing the messages and provisional versions of the messages must be tested with members of the target audience.

However, increasingly there are circumstances when CDC must move swiftly to protect life, prevent disease, or calm public anxiety. Health message testing is even more important in these instances, because of the critical nature of the information need.

CDC receives a mandate from Congress with a tight deadline for communicating with the public about a specific topic. For example, Congress gave CDC 120 days to develop and test messages for a public information campaign about Helicobacter pylori, a bacterium that can cause stomach ulcers and increase cancer risk if an infected individual is not treated with antibiotics.

In the interest of timely health message dissemination, many programs forgo the important step of testing messages on dimensions such as clarity, salience, appeal, and persuasiveness (i.e., the ability to influence behavioral intention). Skipping this step avoids the delay involved in the standard OMB review process, but at a high potential cost. Untested messages can waste communication resources and opportunities because the messages can be perceived as unclear or irrelevant. Untested messages can also have unintended consequences, such as jeopardizing the credibility of Federal health officials.

The Health Message Testing System (HMTS), a generic information collection, will enable programs across CDC to collect the information they require in a timely manner to:

• Ensure quality and prevent waste in the dissemination of health information by CDC to the public.

• Refine message concepts and to test draft materials for clarity, salience, appeal, and persuasiveness to target audiences.

• Guide the action of health communication officials who are responding to health emergencies, Congressionally-mandated campaigns with short timeframes, media-generated public concern, time-limited communication opportunities, trends, and the need to refresh materials or dissemination strategies in an ongoing campaign.

Each testing instrument will be based on specific health issues or topics. Although it is not possible to develop one instrument for use in all instances, the same kinds of questions are asked in most message testing. This package includes generic questions and formats that can used to develop health message testing data collection instruments. These include a list of screening questions, comprised of demographic and introductory questions, along with other questions that can be used to create a mix of relevant questions for each proposed message testing data collection method. However, programs may request to use additional questions if needed.

Message testing questions will focus on issues such as comprehension, impressions, personal relevance, content and wording, efficacy of response, channels, and spokesperson/sponsor. Such information will enable message developers to enhance the effectiveness of messages for intended audiences.

Data collection methods proposed for HMTS include intercept interviews, telephone interviews, focus groups, online surveys, and cognitive interviews. In almost all instances, data will be collected by outside organizations under contract with CDC.

There is no cost to the respondents other than their time. The total estimated annualized burden hours are 2,470.

Table A12A—Estimated Annualized Burden Hours
Data collection methods | Number of respondents per method | Number of responses per respondent | Average burden per response (in hours)
Central Location Intercept Interviews, Telephone Interviews, Individual In-depth Interview (Cognitive Interviews), Focus Group Screenings, Focus Groups, Online Surveys | 18,525 | 1 | 8/60

Dated: September 19, 2011.
Daniel Holcomb,
Reports Clearance Officer, Centers for Disease Control and Prevention.

[FR Doc. 2011-25007 Filed 9-28-11; 8:45 am]

BILLING CODE 4163-18-P